DEPARTMENT OF THE INTERIOR

Bureau of Indian Affairs

[256A2100DD/AAKC001030/A0A501010.000000]

Yuhaaviatam of San Manuel Nation; Liquor Act Amendment

AGENCY: Bureau of Indian Affairs, Interior.

ACTION: Notice.

SUMMARY: This notice publishes an amendment to the Liquor Act of the Yuhaaviatam of San Manuel Nation. The Yuhaaviatam of San Manuel Nation Liquor Act, as amended, regulates and controls the possession, sale, manufacture, and distribution of alcohol in conformity with the laws of the State of California.

DATES: This ordinance shall become effective August 25, 2025.

FOR FURTHER INFORMATION CONTACT: Ms. Sarraye Forrest-Davis, Tribal Government Specialist, Bureau of Indian Affairs, Pacific Region, Division of Tribal Government Services, 2800 Cottage Way, Room W-2820, Sacramento, California 95825, Telephone (916) 978-6067, Fax: (916) 978-6099.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor control ordinances for the purpose of regulating liquor transactions in Indian country. The Tribal authorities of the Yuhaaviatam of San Manuel Nation enacted the Liquor Act, as amended, on June 03, 2024.

This notice is published in accordance with the authority delegated by the Secretary of the Interior to the Assistant Secretary—Indian Affairs. I certify that the Tribal authorities of the Yuhaaviatam of San Manuel Nation duly enacted the Liquor Act, as amended, on June 3, 2024.

Scott J. Davis,
Senior Advisor to the Secretary of the Interior, Exercising the delegated authority of the Assistant Secretary—Indian Affairs.

Chapter 3 of the Yuhaaviatam of San Manuel Liquor Act, as amended, shall read as follows:

YUHAAVIATAM OF SAN MANUEL NATION LIQUOR ACT

CHAPTER 3. LIQUOR ACT

YSMNC 3.1. Title

This Chapter shall be known and cited as the “Liquor Act”.

YSMNC 3.2 Statement

Whereas, Public Law 277, 83rd Congress, approved August 15, 1953 as amended by Public Law 98-473, 98th Congress, approved October 12, 1984, provides that sections 1154, 1156, 3113, 3488 and 3669 of Title 18, United States Code, commonly referred to as the Federal Indian Liquor Laws, shall not apply to any act or transaction within any area of Indian Country provided such act or transaction is in conformity with both the laws of the State in which such act or transaction occurs and with an ordinance duly adopted by the tribe having jurisdiction over such area of Indian Country, certified by the Secretary of the Interior, and published in the Federal Register.

Therefore, be it resolved that the introduction, sale, or possession of intoxicating beverages shall be lawful within the Indian Country under the jurisdiction of the Yuhaaviatam of San Manuel Nation; provided, that such introduction, sale, or possession is in conformity with the laws of California.

Be it further resolved that any tribal laws, resolutions, or ordinances heretofore enacted which prohibit the sale, introduction or possession of intoxicating beverages are hereby repealed.

[FR Doc. 2025-16225 Filed 8-22-25; 8:45 am]

BILLING CODE 4337-15-P